FARM CREDIT ADMINISTRATION

Farm Credit Administration Board Action To Approve a Plan of Voluntary Liquidation for, and To Cancel the Charter of, the Farm Credit Finance Corporation of Puerto Rico

AGENCY: Farm Credit Administration.

ACTION: Notice.

SUMMARY: On August 22, 2012, the Farm Credit Administration (FCA) Board authorized the voluntary liquidation of the Farm Credit Finance Corporation of Puerto Rico (FCFCPR) without the appointment of a receiver, and the cancellation of FCFCPR's charter arising out of the voluntary liquidation of the corporation. The Farm Credit Administration (FCA) Board also granted preliminary and final approval of the proposed Plan of Liquidation for the FCFCPR under 12 CFR 627.2795—Voluntary Liquidation of FCA regulations.

DATES: Effective Date: August 22, 2012.

FOR FURTHER INFORMATION CONTACT:

Thomas R. Risdal, Senior Policy Analyst, Office of Regulatory Policy, Farm Credit Administration, McLean, VA 22102-5090, (703) 883-4257, TTY (703) 883-4434; or

Rebecca S. Orlich, Senior Counsel, Office of General Counsel, Farm Credit Administration, McLean, VA 22102-5090, (703) 883-4020, TTY (703) 883-4020.

SUPPLEMENTARY INFORMATION: The FCFCPR was a service corporation chartered by the FCA on November 26, 1984, as a wholly-owned subsidiary of AgFirst Farm Credit Bank (AgFirst), for the purpose of providing a lower-cost funding source for the operations of Farm Credit of Puerto Rico, ACA. This was based on tax provisions in the Internal Revenue Code in effect at the time of chartering. On October 25, 2005, FCFCPR submitted to FCA certified copies of Resolutions of the Boards of Directors of AgFirst and FCFCPR suspending the operations of the FCFCPR, effective December 31, 2005. As stated in the resolutions, the Board of Directors of the FCFCPR determined that there was insufficient financial benefit resulting from island-based tax treatment of the corporation to justify continuing its operations. By letter dated July 17, 2012, AgFirst, as sole stockholder of FCFCPR, stated its intent to liquidate the corporation in a voluntary liquidation. The service corporation had been inactive for more than 6 years, and at the time of deactivation there were no outstanding claims and no assets or active financial affairs that required winding down or reconciliation. AgFirst stated further that there was no active board for the FCFCPR and that AgFirst would be responsible for any claims arising against FCFCPR following cancellation of the charter.

On August 22, 2012, the FCA Board authorized the voluntary liquidation of FCFCPR without the appointment of a receiver pursuant to 12 CFR 627.2795(a), and the cancellation of FCFCPR's charter arising out of the corporation's voluntary liquidation. The text of the FCA Board action is set forth below:

The Farm Credit Administration (FCA) Board grants preliminary and final approval of the proposed Plan of Liquidation for the Farm Credit Finance Corporation of Puerto Rico under FCA's regulation § 627.2795—Voluntary Liquidation and authorizes publication of Notice of the approval and cancellation of the Charter in the Federal Register.

Signed by Leland A. Strom, Chairman, Farm Credit Administration Board, on August 22, 2012.
Dated: December 7, 2012.
Dale L. Aultman,
Secretary, Farm Credit Administration Board.

[FR Doc. 2012-30134 Filed 12-12-12; 8:45 am]

BILLING CODE 6705-01-P